NUCLEAR REGULATORY COMMISSION

[NRC-2010-0187]

Notice of Issuance of Regulatory Guide

AGENCY: Nuclear Regulatory Commission.

ACTION: Notice of Issuance and Availability of Revision 4 of Regulatory Guide 1.149, “Nuclear Power Plant Simulation Facilities for Use in Operator Training, License Examinations, and Applicant Experience Requirements.”

FOR FURTHER INFORMATION CONTACT: Robert G. Carpenter, U.S. Nuclear Regulatory Commission, Washington, DC 20555-0001, telephone: 301-251-7483 or e-mail Robert.Carpenter@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 4 of Regulatory Guide 1.149, “Nuclear Power Plant Simulation Facilities for Use in Operator Training, License Examinations, and Applicant Experience Requirements,” was issued with a temporary identification as Draft Regulatory Guide, DG-1248.

This guide describes methods acceptable to the NRC's staff for complying with those portions of the Commission's regulations associated with approval or acceptance of a nuclear power plant simulation facility for use in operator and senior operator training, license examination operating tests, and meeting applicant experience requirements.

II. Further Information

In May 2010, DG-1248 was published with a public comment period of 60 days from the issuance of the guide. The public comment period closed on August 27, 2010. Electronic copies of Regulatory Guide 1.149, Revision 4 are available through the NRC's public Web site under “Regulatory Guides” at http://www.nrc.gov/reading-rm/doc-collections/ and through the NRC's Agencywide Documents Access and Management System (ADAMS) at http://www.nrc.gov/reading-rm/adams.html, under Accession No. ML110420119. The regulatory analysis may be found in ADAMS under Accession No. ML110420133. Public comments and the NRC responses may be found in ADAMS under Accession No. ML110420139.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resources@nrc.gov.

Regulatory guides are not copyrighted, and NRC approval is not required to reproduce them.

Dated at Rockville, Maryland, this 4th day of April, 2011.
For the Nuclear Regulatory Commission.
Harriet Karagiannis,
Acting Chief, Regulatory Guide Development Branch, Division of Engineering, Office of Nuclear Regulatory Research.

[FR Doc. 2011-8530 Filed 4-8-11; 8:45 am]

BILLING CODE 7590-01-P